DEPARTMENT OF COMMERCE

International Trade Administration

[C-533-825]

Polyethylene Terephthalate Film, Sheet, and Strip From India: Preliminary Results and Partial Recission of Countervailing Duty Administrative Review; 2012

AGENCY: Enforcement and Compliance, International Trade Administration, Department of Commerce.

SUMMARY: The Department of Commerce (the Department) is conducting an administrative review under the countervailing duty (CVD) order on polyethylene terephthalate film, sheet and strip (PET film) from India for the period of review (POR) January 1, 2012, through December 31, 2012. We preliminarily determine that SRF Limited (SRF) and Jindal Poly Films Limited of India (Jindal) received countervailable subsidies during the POR. See the “Preliminary Results of Review” section, below. Interested parties are invited to comment on these preliminary results.

DATES: Effective Date: August 25, 2014.

FOR FURTHER INFORMATION CONTACT: Elfi Blum or Myrna Lobo, AD/CVD Operations, Office VII, Enforcement and Compliance, International Trade Administration, U.S. Department of Commerce, 14th Street and Constitution Avenue NW., Washington, DC 20230; telephone: (202) 482-0197 or (202) 482-2371, respectively.

Scope of the Order

For purposes of the order, the products covered are all gauges of raw, pretreated, or primed polyethylene terephthalate film, sheet and strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the order is dispositive.

Partial Rescission of Administrative Review

On August 28, 2013, the Department initiated a review of eight companies in this proceeding.¹ On December 12, 2013, Petitioners and SRF timely withdrew their requests for review. On the same date, Polyplex USA and Flex USA (domestic interested parties) timely withdrew their requests for reviews of all companies except Jindal and SRF.

¹ See Initiation of Antidumping and Countervailing Duty Administrative Reviews and Requests for Revocations in Part, 78 FR 53128 (August 28, 2013). The eight companies were Ester Industries (Ester), Garware Polyester Ltd. (Garware), Jindal, MTZ Polyesters Ltd. (MTZ), Polyplex Corporation Ltd. (Polyplex), SRF, Uflex Limited (Uflex), and Vacmet. DuPont Teijin Films, Mitsubishi Polyester Film, Inc., and SKC, Inc. (collectively Petitioners) requested a review for six companies (Ester, Garware, Polyplex, SRF, Jindal, and Vacmet). Polyplex, USA LLC (Polyplex USA) and Flex Films (USA) Inc. (Flex USA) requested a review for eight companies (SRF, Jindal, Polyplex, Garware, Ester, Uflex, MTZ, and Vacmet). In addition, SRF self-requested an administrative review.

On December 18, 2013, Jindal and SRF filed a request with the Department to reject Polyplex USA's and Flex USA's review requests in both the antidumping duty and CVD proceedings because, they alleged, the requestors did not have standing to request a review for the current PORs. The Department made an interested party determination on March 20, 2014, concluding that Polyplex USA and Flex USA were eligible to request administrative reviews for this proceeding.²

² See Memorandum to Edward Yang, Director AD/CVD Operations, Office VII, Enforcement and Compliance re: Interested Party Status in the Antidumping Duty (AD) and Countervailing Duty (CVD) Administrative Reviews: Polyethylene Terephthalate Film, Sheet, and Strip (PET film) from India; 2012-2013 (March, 20, 2013).

As Petitioners', Polyplex USA's, and Flex USA's review and withdrawal requests were timely filed, we are rescinding this administrative review with respect to Polyplex, Garware, Ester, Uflex, MTZ, and Vacmet (pursuant to 19 CFR 351.213(d)(1)), and proceeding with the reviews of Jindal and SRF.

Methodology

The Department conducted this review in accordance with section 751(a)(l)(A) of the Tariff Act of 1930, as amended (the Act). For each of the subsidy programs found countervailable, we preliminarily determine that there is a subsidy, i.e., a government-provided financial contribution that gives rise to a benefit to the recipient, and that the subsidy is specific.³ For a full description of the methodology underlying our conclusions, see the Memorandum from Christian Marsh, Deputy Assistant Secretary for Antidumping and Countervailing Duty Operations to Ronald K. Lorentzen, Acting Assistant Secretary for Enforcement and Compliance, titled Decision Memorandum for the Preliminary Results of Countervailing Duty (CVD) Administrative Review: Polyethylene Terephthalate Film, Sheet and Strip from India (Preliminary Decision Memorandum), dated concurrently with these preliminary results and hereby adopted by this notice.

³ See sections 771(5)(B) and (D) of the Act regarding financial contribution; section 771(5)(E) of the Act regarding benefit; and section 771(5A) of the Act regarding specificity.

The Preliminary Decision Memorandum is a public document and is on file electronically via Enforcement and Compliance's Antidumping and Countervailing Duty Centralized Electronic Service System (IA ACCESS). IA ACCESS is available to registered users at http://iaaccess.trade.gov, and is available to all parties in the Central Records Unit, Room 7046 of the main Department of Commerce building. In addition, a complete version of the Preliminary Decision Memorandum can be accessed directly at http://enforcement.trade.gov/frn/. The signed Preliminary Decision Memorandum and the electronic versions of the Preliminary Decision Memorandum are identical in content.

Preliminary Results of Review

We determine the total estimated net countervailable subsidy rates for the period January 1, 2012, through December 31, 2012 to be:

Company | Subsidy rate (%)
SRF Limited | 2.08
Jindal Poly Films Limited | 8.36

Assessment Rates and Cash Deposit Requirements

In accordance with 19 CFR 351.221(b)(4)(i), the Department assigned a subsidy rate for each producer/exporter subject to this administrative review. If these preliminary results are adopted in the final results of this review, 15 days after publication of the final results of this review the Department intends to instruct U.S. Customs and Border Protection (CBP) to liquidate shipments of subject merchandise produced and/or exported by SRF and Jindal, entered or withdrawn from warehouse, for consumption from January 1, 2012, through December 31, 2012, at 2.08 percent ad valorem and 8.36 percent ad valorem, respectively, of the entered value.

The Department intends also to instruct CBP to collect cash deposits of estimated CVDs at the rate of 2.08 percent ad valorem and 8.36 percent ad valorem, respectively, of the entered value on shipments of the subject merchandise produced and/or exported by SRF and Jindal, entered, or withdrawn from warehouse, for consumption on or after the date of publication of the final results of this review.⁴ We intend to instruct CBP to continue to collect cash deposits for non-reviewed companies at the applicable company-specific CVD rate for the most recent period or all-others rate established in the investigation. These cash deposit rates, when imposed, shall remain in effect until further notice.

⁴ See section 751(a)(2)(C) of the Act.

Disclosure and Public Comment

The Department will disclose to parties to this proceeding the calculations performed in reaching the preliminary results within five days of the date of publication of these preliminary results.⁵ Interested parties may submit written comments (case briefs) within 30 days of publication of the preliminary results and rebuttal comments (rebuttal briefs) within five days after the time limit for filing case briefs.⁶ Rebuttal briefs must be limited to issues raised in the case briefs.⁷ Parties who submit case or rebuttal briefs are requested to submit with the argument: (1) A statement of the issue; (2) a brief summary of the argument; and (3) a table of authorities.⁸

⁵ See 19 CFR 351.224(b).

⁶ See 19 CFR 351.309(c)(l)(ii) and 351.309(d)(l).

⁷ See 19 CFR 351.309(d)(2).

⁸ See 19 CFR 351.309(c)(2) and (d)(2).

Interested parties who wish to request a hearing, or to participate if one is requested, must do so within 30 days of publication of these preliminary results by submitting a written request to the Assistant Secretary for Enforcement and Compliance, U.S. Department of Commerce, using Enforcement and Compliance's IA ACCESS system.⁹ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.¹⁰ Parties should confirm by telephone the date, time, and location of the hearing. Issues addressed at the hearing will be limited to those raised in the briefs.¹¹ All briefs and hearing requests must be filed electronically and received successfully in their entirety through IA ACCESS by 5:00 p.m. Eastern Time on the due date.

⁹ See 19 CFR 351.310(c).

¹⁰ See 19 CFR 351.310.

¹¹ See 19 CFR 351.310(c).

Unless the deadline is extended pursuant to section 75l(a)(3)(A) of the Act, the Department will issue the final results of this administrative review, including the results of our analysis of the issues raised by the parties in their comments, within 120 days after issuance of these preliminary results.

These preliminary results of review are issued and published in accordance with sections 75l(a)(l) and 777(i)(l) of the Act and 19 CFR 351.221(b)(4).

Dated: August 18, 2014.
Ronald K. Lorentzen,
Acting Assistant Secretary for Enforcement and Compliance.

Appendix I

List of Topics Discussed in the Preliminary Decision Memorandum

1. Background

2. Scope of the Order

3. Partial Rescission of Administrative Review

4. Subsidies Valuation

5. Analysis of Programs

[FR Doc. 2014-20154 Filed 8-22-14; 8:45 am]

BILLING CODE 3510-DS-P